DEPARTMENT OF HEALTH AND HUMAN SERVICES

National Institutes of Health

Consensus Development Conference on Osteoporosis Prevention, Diagnosis, and Therapy

Notice is hereby given of the National Institutes of Health (NIH) Consensus Development Conference on “Osteoporosis Prevention, Diagnosis, and Therapy,” which will be held March 27-29, 2000, in the NIH's Natcher Conference Center, 9000 Rockville Pike, Bethesda, Maryland 20892. The conference begins at 8:00 am on March 27, at 8:30 am on March 28, and at 9:00 am on March 29 and is open to the public.

The most common bone disease in the United States, osteoporosis affects 10 million people in this country, with 18 million more at increased risk due to low bone mass. Osteoporosis is characterized by low bone mass and structural deterioration of bone tissue, leading to bone fragility and an increased susceptibility to fractures—particularly of the hip, spine, and wrist. Women are four times more likely than men to develop osteoporosis.

The purpose of the 2½-day conference is to clarify, for health care providers and the public, the factors associated with prevention and better diagnosis and treatment of osteoporosis. After 1½ days of presentations and audience discussion of the latest osteoporosis research, an independent, non-Federal consensus development panel will weigh the scientific evidence and draft a statement addressing the following key questions:

What is osteoporosis and what are its consequences?

How do risks vary among different segments of the population?

What factors are involved in building and maintaining skeletal health throughout life?

What is the optimal evaluation and treatment of osteoporosis and fractures?

What are the directions for future research?

On the final day of the conference, the panel's draft statement will be read in public, at which time members of the public are invited to offer comments on the draft.

The primary organizers of this meeting are the National Institute of Arthritis and Musculoskeletal and Skin Diseases and the NIH Office of Medical Applications of Research. Other supporters include the National Institute on Aging; the National Institute of Diabetes and Digestive and Kidney Diseases; the National Institute of Dental and Craniofacial Research; the National Institute of Child Health and Human Development; the National Institute of Nursing Research; the National Institute of Environmental Health Sciences; the National Heart, Lung, and Blood Institute; the NIH Office of Research on Women's Health; and the Agency for Healthcare Research and Quality (formerly the Agency for Health Care Policy and Research).

This is the 111th Consensus Development Conference held by the NIH in the 23-year history of the Consensus Development Program. Advance information about the conference and conference registration materials may be obtained from Prospect Associates of Silver Spring, Maryland, by calling (301) 592-3320 or by sending email to osteoporosis@prospectassoc.com. Prospect Associates' address is 10720 Columbia Pike, Suite 500, Silver Spring, Maryland 20901-4437. A conference agenda and registration information is also available on the NIH Consensus Program Web site at http://consensus.nih.gov.

Dated: March 2, 2000.
Ruth L. Kirschstein,
Acting Director, NIH.

[FR Doc. 00-6014 Filed 3-10-00; 8:45 am]

BILLING CODE 4140-01-P